DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 58309, dated September 23, 2013) is amended to reflect the title change for the CIMS Program Management Office within the Office of the Chief Information Officer, Office of the Chief Operating Officer, Centers for Disease Control and Prevention.

Section C-B, Organization and Functions, is hereby amended as follows:

Delete in its entirety the title for the CIMS Program Management Office (CAJR14) and insert the Acquisition Program Management Office (CAJR14).

Dated: November 8, 2013.
Sherri A. Berger,
Chief Operating Officer, Centers for Disease Control and Prevention.

[FR Doc. 2013-28754 Filed 11-29-13; 8:45 am]

BILLING CODE 4160-18-M